INTERNATIONAL TRADE COMMISSION

[Investigation Nos. 701-TA-597 and 731-TA-1407 (Final)]

Cast Iron Soil Pipe From China

Determinations

On the basis of the record ¹ developed in the subject investigations, the United States International Trade Commission (“Commission”) determines, pursuant to the Tariff Act of 1930 (“the Act”), that an industry in the United States is materially injured by reason of imports of cast iron soil pipe from China, provided for in subheading 7303.00.00 of the Harmonized Tariff Schedule of the United States, that have been found by the U.S. Department of Commerce (“Commerce”) to be sold in the United States at less than fair value (“LTFV”), and to be subsidized by the government of China.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective January 26, 2018, following receipt of a petition filed with the Commission and Commerce by the Cast Iron Soil Pipe Institute, Mundelein, Illinois. The final phase of the investigations was scheduled by the Commission following notification of preliminary determinations by Commerce that imports of cast iron soil pipe from China were subsidized within the meaning of section 703(b) of the Act (19 U.S.C. 1671b(b)) and sold at LTFV within the meaning of 733(b) of the Act (19 U.S.C. 1673b(b)).

Notice of the scheduling of the final phase of the Commission's investigations and of a public hearing to be held in connection therewith was given by posting copies of the notice in the Office of the Secretary, U.S. International Trade Commission, Washington, DC, and by publishing the notice in the Federal Register on September 13, 2018 (83 FR 46519) and on February 6, 2019 (84 FR 2248). The hearing was held in Washington, DC, on February 12, 2019, and all persons who requested the opportunity were permitted to appear in person or by counsel.

The Commission made these determinations pursuant to sections 705(b) and 735(b) of the Act (19 U.S.C. 1671d(b) and 19 U.S.C. 1673d(b)). It completed and filed its determinations in these investigations on April 8, 2019. The views of the Commission are contained in USITC Publication 4879 (April 2019), entitled Cast Iron Soil Pipe from China: Investigation Nos. 701-TA-597 and 731-TA-1407 (Final).

By order of the Commission.
Issued: April 8, 2019.
Lisa Barton,
Secretary to the Commission.

[FR Doc. 2019-07245 Filed 4-11-19; 8:45 am]

BILLING CODE 7020-02-P